DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Subcommittee on Standards and Security (SSS).

Time and Date: 9 a.m. to 5 p.m., March 3, 2004.

Place: Washington Terrace Hotel, 1515 Rhode Island Avenue, NW., Washington, DC 20005, (202) 232-7000.

Status: Open.

Purpose: The morning and afternoon sessions will focus on additional industry testimony on electronic claims attachments under HIPAA. The afternoon session will conclude with Subcommittee discussion of the issues presented and the substance of a possible letter to the Secretary.

For Further Information Contact: Substantive program information as well as summaries of meetings and a roster of Committee members may be obtained from Maria Friedman, Health Insurance Specialist, Security and Standards Group, Centers for Medicare and Medicaid Services, MS: C5-24-04, 7500 Security Boulevard, Baltimore, MD 21244-1850, telephone: 410-786-6333 or Marjorie S. Greenberg, Executive Secretary, Room 1100, Presidential Building, 3311 Toledo Road, Hyattsville, Maryland 20782, telephone: (301) 458-4245. Information also is available on the NCVHS home page of the HHS Web site: http://www.ncvhs.hhs.gov/ where an agenda for the meeting will be posted when available.

Should you require reasonable accommodation, please contact the CDC Office of Equal Employment Opportunity on (301) 458-4EEO (4336) as soon as possible.

Dated: February 12, 2004.
James Scanlon,
Acting Deputy Assistant Secretary for Science and Data Policy; Office of the Assistant Secretary for Planning and Evaluation.

[FR Doc. 04-3660 Filed 2-19-04; 8:45 am]

BILLING CODE 4151-05-M